NUCLEAR REGULATORY COMMISSION

10 CFR Part 72

RIN 3150-AI71

[NRC-2009-0349]

List of Approved Spent Fuel Storage Casks: HI-STORM 100 Revision 7

AGENCY: Nuclear Regulatory Commission.

ACTION: Direct final rule.

SUMMARY: The U.S. Nuclear Regulatory Commission (NRC) is amending its spent fuel storage regulations by revising the Holtec International (Holtec) HI-STORM 100 dry cask storage system listing within the “List of Approved Spent Fuel Storage Casks” to include Amendment No. 7 to Certificate of Compliance (CoC) Number 1014. Amendment No. 7 will modify the CoC to add the HI-STORM 100U system to the HI-STORM 100 cask systems. The HI-STORM 100U system allows for the underground storage of dry spent nuclear fuel (SNF) by utilizing an underground vertical ventilated module (VVM) that can accept certain Holtec multipurpose canisters (MPCs) previously certified for storage of SNF in the aboveground HI-STORM system. The amendment also incorporates a mandatory radiation protection perimeter around the loaded VVMs. In addition, the amendment will reinstate the decay heat limits for damaged fuel and fuel debris in Appendix B, Technical Specification (TS) 2.4, for the aboveground system that had been inadvertently deleted from Amendment Nos. 5 and 6; incorporate separate TS Appendices A and B for the aboveground system (Apps. A and B) and for the HI-STORM 100U system (Apps. A-100U and B-100U); revise Appendix B, TS 3.4.5, to be consistent with the required system thermal boundary conditions, as submitted in the applicant's safety analysis report for a fire accident condition, and with Holtec's original (i.e., initial certificate application or Amendment 0) submittal and the NRC's original safety evaluation report; and revise and add certain definitions in Appendix A, TS 1.1, to include the VVM. The amendment will also incorporate minor editorial corrections in the TS for the aboveground system.

DATES: The final rule is effective December 28, 2009, unless significant adverse comments are received by November 12, 2009. A significant adverse comment is a comment where the commenter explains why the rule would be inappropriate, including challenges to the rule's underlying premise or approach, or would be ineffective or unacceptable without a change. If the rule is withdrawn, timely notice will be published in the Federal Register.

ADDRESSES: You can access publicly available documents related to this document using the following methods:

Federal e-Rulemaking Portal: Go to http://www.regulations.gov and search for documents filed under Docket ID [NRC-2009-0349]. Address questions about NRC dockets to Carol Gallagher 301-492-3668; e-mail Carol.Gallagher@nrc.gov.

NRC's Public Document Room (PDR): The public may examine and have copied for a fee publicly available documents at the NRC's PDR, Public File Area O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR Reference staff at 1-800-397-4209, 301-415-4737, or by e-mail to pdr.resource@nrc.gov. An electronic copy of the proposed CoC, TS, and preliminary safety evaluation report (SER) can be found under ADAMS Package Number ML091680333.

CoC No. 1014, the TS, the preliminary SER, and the environmental assessment are available for inspection at the NRC PDR, Public File Area O-1F21, One White Flint North, 11555 Rockville Pike, Rockville, MD. Single copies of these documents may be obtained from Neelam Bhalla, Office of Federal and State Materials and Environmental Management Programs, U.S. Nuclear Regulatory Commission, Washington, DC 20555-0001, telephone (301) 415-6843, e-mail Neelam.Bhalla@nrc.gov.

FOR FURTHER INFORMATION CONTACT: Neelam Bhalla, Office of Federal and State Materials and Environmental Management Programs, U.S. Nuclear Regulatory Commission, Washington, DC 20555-0001, telephone (301) 415-6843, e-mail Neelam.Bhalla@nrc.gov.

SUPPLEMENTARY INFORMATION:

Background

Section 218(a) of the Nuclear Waste Policy Act of 1982, as amended (NWPA), states that “[t]he Secretary [of the Department of Energy (DOE)] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the NWPA states, in part, that “[t]he Commission shall, by rule, establish procedures for the licensing of any technology approved by the Commission under Section 218(a) for use at the site of any civilian nuclear power reactor.”

To implement this mandate, the NRC approved dry storage of SNF in NRC-approved casks under a general license by publishing a final rule in 10 CFR Part 72, which added a new Subpart K within 10 CFR Part 72, entitled “General License for Storage of Spent Fuel at Power Reactor Sites” (55 FR 29181; July 18, 1990). This rule also established a new Subpart L within 10 CFR Part 72, entitled “Approval of Spent Fuel Storage Casks,” which contains procedures and criteria for obtaining NRC approval of spent fuel storage cask designs. The NRC subsequently issued a final rule on May 1, 2000 (65 FR 25241), that approved the HI-STORM 100 cask design and added it to the list of NRC-approved cask designs in 10 CFR 72.214 as CoC No. 1014.

Discussion

By letter dated April 27, 2007, and as supplemented on June 5, June 12, July 14, December 19, 2008, January 16, January 21, February 6, April 6, April 22, May 13, and June 23, 2009, Holtec submitted an application to the NRC that requested an amendment to CoC No. 1014. The amendment proposes to add the HI-STORM 100U system to the list of approved HI-STORM 100 cask systems. The HI-STORM 100U system allows for the underground storage of dry spent fuel by utilizing an underground VVM that can accept certain Holtec MPCs previously certified for storage in the Holtec aboveground overpacks. The fixed structure of the vertical storage cavity, identified by Holtec as the “Cavity Enclosure Container” (CEC), is made of a cylindrical container shell integrally welded to both a bottom plate and an upper container flange. A continuous weld between the container shell and the bottom plate is done to ensure that the CEC is completely sealed at its base. The constituent parts of the CEC are fabricated out of approximately 1-inch thick low-carbon steel plate and are coated with epoxy paint following fabrication. For installation in highly corrosive soils, the subsurface outer shell of the VVM would be encased in concrete for additional protection against corrosion.

As installed in the subsurface, an individual VVM extends approximately 5.8 meters (19 feet) below the ground surface and rests in a recess on a concrete support foundation of requisite thickness (0.61-0.91 meter) (2 to 3 feet). Engineered backfill surrounds the VVM for most of its subsurface interface. The VVM is capped by a massive steel and concrete ventilated closure lid that sits above the ground surface to about 0.74 meters (approximately 29 inches), and prevents its horizontal shifting during design basis events. Internally, the CEC is equipped with a removable insulated divider shell and MPC bearing pads to help meet cask thermal performance requirements. Air inlets and outlets allow air to circulate naturally through the cavity to cool the MPC interior. All ventilation openings in the VVM are covered with stainless steel wire mesh to preclude the entry of small birds and mammals.

The subterranean steel structure is seal welded to prevent ingress of any groundwater from the surrounding subgrade, and is mounted on a stiff foundation. The surrounding subgrade and a top surface pad provide significant radiation shielding. A loaded MPC is stored within the HI-STORM 100U storage VVM in the vertical orientation.

For the HI-STORM 100U underground system, the amendment also incorporates a mandatory radiation protection perimeter around the loaded VVMs. In Appendix B-100U, TS 3.4.8 requires that prior to an excavation activity contiguous to a Radiation Protection Space (RPS), a seismic evaluation of the Independent Spent Fuel Storage Installation (ISFSI) in the structurally most vulnerable configuration (i.e., maximum amount of earth removed) shall be performed to verify that the stability of the support foundation, the ISFSI pad, and the shielding material within the RPS is maintained. It requires that excavation can only occur at a distance from the RPS greater than 10 times the depth of the planned excavation. The RPS, as defined in TS 5.7.9 of Appendix A-100U, is intended to ensure that the substrate material (such as natural subgrade and engineered fill) remains intact under all service conditions, including during an excavation activity adjacent to the RPS.

For the HI-STORM 100U underground system, Appendix B-100U TS 3.4.5.a. requires that the support foundation rest directly on a bedrock unless the shear wave velocity of the substrate on which the support foundation rests is greater than or equal to 3500 feet/second. As explained in the SER, item 3.1.7 entitled, “Evaluation of the HI-STORM 100U System Structural Design,” Holtec must submit an amendment request to CoC No.1014 if there is any deviation from the requirement set forth in Appendix B-100U TS 3.4.5.a. This requirement will ensure that the ISFSI can withstand the design basis seismologic events.

For the HI-STORM 100 aboveground system, the amendment will reinstate the decay heat limits for damaged fuel and fuel debris in TS Appendix B, Section 2.4. These requirements had been inadvertently deleted from Amendment Nos. 5 and 6. Amendment No. 7 does not alter the decay heat limits that were previously approved in the TS Appendix B.

For the aboveground system, the amendment will revise Appendix B, TS 3.4.5, to be consistent with the required system thermal boundary conditions as submitted in the applicant's safety analysis report (SAR) for a fire accident condition. This revision to TS Appendix B does not add any new requirements but makes it consistent with the intent of Holtec's original (i.e., initial certificate application or Amendment 0) submittal and NRC's original SER.

For the aboveground system, the amendment will also revise and add certain definitions in Appendix A, TS 1.1. For example, “Vertical Ventilated Module” has been added and defined in the list of terms defined in Appendix A. The revisions and additions to the definitions in Appendix A make these terms usable in Appendices A, B, A-100U, and B-100U. Finally, the amendment will also incorporate minor editorial corrections in Appendices A and B for the aboveground system.

This direct final rule revises the HI-STORM 100 dry storage cask system listing in 10 CFR 72.214 by adding Amendment No. 7 to CoC No. 1014. The amendment consists of the changes described above, as set forth in the revised CoC and TS. The amendment provides separate TS Appendices A and B for the aboveground system, and Appendices A-100U and B-100U for the underground system. As documented in the SER for Amendment No. 7, the NRC staff performed a detailed safety evaluation of the proposed CoC amendment request and found that an acceptable safety margin is maintained. In addition, the NRC staff has determined that there continues to be reasonable assurance that public health and safety and the environment will be adequately protected.

The amended HI-STORM 100 cask design, when used under the conditions specified in the CoC, the TS, and NRC regulations, will meet the requirements of Part 72; thus, adequate protection of public health and safety will continue to be ensured. When this direct final rule becomes effective, entities holding a general license under 10 CFR 72.210 may load SNF into HI-STORM 100 casks that meet the criteria of Amendment No. 7 to CoC No. 1014 under 10 CFR 72.212.

Discussion of Amendments by Section

Section 72.214 List of Approved Spent Fuel Storage Casks

Certificate No. 1014 is revised by adding the effective date of Amendment No. 7. This amendment also corrects the CoC expiration date of June 1, 2020, to May 31, 2020. The CoC No. 1014, Amendment 0 (65 FR 25241; May 1, 2000), incorrectly stated an expiration date of June 1, 2020, instead of May 31, 2020.

Procedural Background

This rule is limited to the changes contained in Amendment No. 7 to CoC No. 1014 and does not include other aspects of the HI-STORM 100 dry storage cask system. The NRC is using the “direct final rule procedure” to issue this amendment because it represents a limited and routine change to an existing CoC that is expected to be noncontroversial. Adequate protection of public health and safety continues to be ensured. The amendment to the rule will become effective on December 28, 2009. However, if the NRC receives any significant adverse comments on this direct final rule by November 12, 2009, then the NRC will publish a document that withdraws this action and will subsequently address any comment received in a final rule as a response to the companion proposed rule published elsewhere in this issue of the Federal Register. Absent significant modifications to the proposed revisions requiring republication, the NRC will not initiate a second comment period on this action.

A significant adverse comment is a comment where the commenter explains why the rule would be inappropriate, including challenges to the rule's underlying premise or approach, or would be ineffective or unacceptable without a change. A comment is adverse and significant if:

1. The comment opposes the rule and provides a reason sufficient to require a substantive response in a notice-and-comment process. For example, a substantive response is required when:

a. The comment causes the NRC staff to reevaluate (or reconsider) its position or conduct additional analysis;

b. The comment raises an issue serious enough to warrant a substantive response to clarify or complete the record; or

c. The comment raises a relevant issue that was not previously addressed or considered by the NRC staff.

2. The comment proposes a change or an addition to the rule, and it is apparent that the rule would be ineffective or unacceptable without incorporation of the change or addition.

3. The comment causes the NRC staff to make a change (other than editorial) to the rule, CoC, or TS.

Voluntary Consensus Standards

The National Technology Transfer and Advancement Act of 1995 (Pub. L. 104-113) requires that Federal agencies use technical standards that are developed or adopted by voluntary consensus standards bodies unless the use of such a standard is inconsistent with applicable law or otherwise impractical. In this direct final rule, the NRC will revise the HI-STORM 100 cask design listed in § 72.214 (List of NRC-approved spent fuel storage cask designs). This action does not constitute the establishment of a standard that contains generally applicable requirements.

Agreement State Compatibility

Under the “Policy Statement on Adequacy and Compatibility of Agreement State Programs” approved by the Commission on June 30, 1997, and published in the Federal Register on September 3, 1997 (62 FR 46517), this rule is classified as Compatibility Category “NRC.” Compatibility is not required for Category “NRC” regulations. The NRC program elements in this category are those that relate directly to areas of regulation reserved to the NRC by the Atomic Energy Act of 1954, as amended (AEA), or the provisions of Title 10 of the Code of Federal Regulations. Although an Agreement State may not adopt program elements reserved to NRC, it may wish to inform its licensees of certain requirements via a mechanism that is consistent with the particular State's administrative procedure laws but does not confer regulatory authority on the State.

Plain Language

The Presidential Memorandum, “Plain Language in Government Writing,” published June 10, 1998 (63 FR 31883), directed that the Government's documents be in clear and accessible language. The NRC requests comments on this direct final rule specifically with respect to the clarity and effectiveness of the language used. Comments should be sent to the address listed under the heading ADDRESSES, above.

Finding of No Significant Environmental Impact: Availability

Under the National Environmental Policy Act of 1969, as amended, and the NRC regulations in Subpart A of 10 CFR Part 51, the NRC has determined that this rule, if adopted, would not be a major Federal action significantly affecting the quality of the human environment, and therefore, an environmental impact statement is not required. This rule will amend the CoC for the HI-STORM 100 cask design within the list of approved spent fuel storage casks that power reactor licensees can use to store spent fuel at reactor sites under a general license.

The amendment will modify the CoC 1014 to add the HI-STORM 100U system to the HI-STORM 100 cask systems. The HI-STORM 100U system allows for the underground storage of dry SNF. The amendment also incorporates a mandatory radiation protection perimeter around the loaded VVMs. The environmental impact of interim storage of SNF at an ISFSI has been evaluated in NUREG-1092, “Environmental Assessment for 10 CFR 72 Licensing Requirements for the Independent Storage of Spent Fuel and High-Level Radioactive Waste.” The environmental assessment provided the basis for allowing deployment of ISFSIs under general licenses at nuclear power reactor sites without the need for additional site-specific approvals, but it did not consider subsurface designs. Because the HI-STORM 100U is an underground storage system, Holtec, under the requirements of 10 CFR 51.41, submitted an environmental report to NRC on June 2, 2008, as a reference document for evaluating the potential environmental impacts of this subsurface design. Holtec also provided supplemental information on December 19, 2008, in response to questions requesting additional information from the NRC staff.

The environmental impacts of the proposed action have been reviewed in accordance with the requirements of 10 CFR Part 51. NRC has determined that the storage of SNF in an underground Holtec HI-STORM 100U cask system array within the controlled area of a licensed reactor site would not significantly affect the quality of the human environment, either incrementally or cumulatively. Therefore, an environmental impact statement is not warranted for the proposed action, and accordingly, a finding of no significant impact is appropriate.

NRC has prepared an environmental assessment to evaluate the potential impacts of construction, operation, and decommissioning of the subsurface ISFSI arrays under a general license for the HI-STORM 100U underground system. The environmental assessment and finding of no significant impact on which this determination is based are available for inspection at the NRC Public Document Room, Public File Area O-1F21, One White Flint North, 11555 Rockville Pike, Rockville, MD. Single copies of the environmental assessment and finding of no significant impact are available from Neelam Bhalla, Office of Federal and State Materials and Environmental Management Programs, U.S. Nuclear Regulatory Commission, Washington, DC 20555-0001, telephone (301) 415-6843, e-mail Neelam.Bhalla@nrc.gov.

The environmental assessment concludes that there would be no significant radiological or nonradiological environmental impacts from routine operation of the ISFSI. The ISFSI is a passive facility and no liquid or gaseous effluents would be released from the storage casks. The dose rates from the spent fuel would be limited by the design of both the storage casks and the subsurface VVM. The total occupational dose to workers at any given reactor site may increase slightly due to work associated with loading, transferring, and storing the casks, but all occupational doses must be maintained below the limits specified in 10 CFR Part 20 and must be kept as low as reasonably achievable in accordance with licensee's radiation protection programs. The annual dose to the nearest residents from general license ISFSI activities (which, to date, have utilized aboveground cask systems) has always been significantly below the limits specified in 10 CFR 72.104 and 10 CFR 20.1301(a). The shielding provided by soil is expected to result in a radiation dose from the Holtec HI-STORM 100U system to be the same or lower than the current aboveground systems.

For the aboveground system, the amendment would reinstate the decay heat limits for damaged fuel and fuel debris in Appendix B, TS 2.4, that had been inadvertently deleted from Amendments 5 and 6, and revise Appendix B, TS 3.4.5, to be consistent with the required system thermal boundary conditions as submitted in the applicant's SAR for a fire accident condition. This revision to TS Appendix B does not add any new requirements but makes it consistent with the intent of Holtec's original (i.e., initial certificate application or Amendment 0) submittal and NRC's original SER.

The amendment will also incorporate separate TS Appendices A and B for the aboveground system (Apps. A and B) and for the HI-STORM 100U system (Apps. A-100U and B-100U), and revise and add certain definitions in Appendix A, TS 1.1, to include the VVM.

As such, Amendment No. 7 does not make any changes to the previously approved conditions of the HI-STORM 100 aboveground cask system. The NRC staff believes that the environmental assessments and findings of no significant impact prepared for earlier HI-STORM 100 system amendments continue to be valid and will bound the revisions to the TS.

Paperwork Reduction Act Statement

This direct final rule does not contain a new or amended information collection requirement subject to the Paperwork Reduction Act of 1995 (44 U.S.C. 3501 et seq.). Existing requirements were approved by the Office of Management and Budget (OMB), Approval Number 3150-0132.

Public Protection Notification

The NRC may not conduct or sponsor, and a person is not required to respond to, a request for information or an information collection requirement unless the requesting document displays a currently valid OMB control number.

Regulatory Analysis

On July 18, 1990 (55 FR 29181), the NRC issued an amendment to 10 CFR Part 72 to provide for the storage of SNF under a general license in cask designs approved by the NRC. Any nuclear power reactor licensee can use NRC-approved cask designs to store SNF if it notifies the NRC in advance, the spent fuel is stored under the conditions specified in the cask's CoC, and the conditions of the general license (as set forth in 10 CFR 72.212) are met. A list of NRC-approved cask designs is contained in 10 CFR 72.214. On May 1, 2000 (65 FR 25241), the NRC issued an amendment to Part 72 that approved the HI-STORM 100 cask design by adding it to the list of NRC-approved cask designs in 10 CFR 72.214. On April 27, 2007, and as supplemented on June 5, June 12, July 14, December 19, 2008, January 16, January 21, February 6, April 6, April 22, May 13, and June 23, 2009, the certificate holder, Holtec, submitted an application to the NRC to amend CoC No. 1014 to add the HI-STORM 100U system to the HI-STORM 100 cask systems. The HI-STORM 100U system allows for the underground storage of dry SNF by utilizing a VVM that can accept certain MPCs previously certified for storage of SNF in the Holtec aboveground HI-STORM 100 system. The amendment also incorporates a mandatory radiation protection perimeter around the loaded VVMs. In addition, the application requested amending CoC No. 1014 to reinstate the decay heat limits for damaged fuel and fuel debris in Appendix B, TS 2.4, for the aboveground system that had been inadvertently deleted from Amendment Nos. 5 and 6, and revise Appendix B, TS 3.4.5, to be consistent with the required system thermal boundary conditions as submitted in the applicant's SAR for a fire accident condition. This revision to TS Appendix B does not add any new requirements but makes it consistent with the intent of Holtec's original (i.e., initial certificate application or Amendment 0) submittal and NRC's original SER.

The amendment will also incorporate separate TS Appendices A and B for the aboveground system (Apps A and B) and for the HI-STORM 100U system (Apps. A-100U and B-100U), and revise and add certain definitions in Appendix A, TS 1.1, to include the VVM. The amendment will also incorporate minor editorial corrections in the TS for the aboveground system.

The alternative to this action is to withhold approval of Amendment No. 7 and to require any Part 72 general licensee, seeking to utilize the Holtec HI-STORM 100U system, to request an exemption from the requirements of 10 CFR 72.212 and 72.214. Under this alternative, each interested Part 72 licensee would have to prepare, and the NRC would have to review, a separate exemption request, thereby increasing the administrative burden upon the NRC and the costs to each licensee.

Approval of the direct final rule is consistent with previous NRC actions. Further, as documented in the SER and the environmental assessment, the direct final rule will have no adverse effect on public health and safety. This direct final rule has no significant identifiable impact or benefit on other government agencies. Based on this regulatory analysis, the NRC concludes that the requirements of the direct final rule are commensurate with the NRC's responsibilities for public health and safety and the common defense and security. No other available alternative is believed to be as satisfactory, and thus, this action is recommended.

Regulatory Flexibility Certification

Under the Regulatory Flexibility Act of 1980 (5 U.S.C. 605(b)), the NRC certifies that this rule will not, if issued, have a significant economic impact on a substantial number of small entities. This direct final rule affects only nuclear power plant licensees and Holtec. These entities do not fall within the scope of the definition of “small entities” set forth in the Regulatory Flexibility Act or the size standards established by the NRC (10 CFR 2.810).

Backfit Analysis

The NRC has determined that the backfit rule (10 CFR 72.62) does not apply to this direct final rule because this amendment does not involve any provisions that would impose backfits as defined in 10 CFR Chapter I. Therefore, a backfit analysis is not required.

Congressional Review Act

Under the Congressional Review Act of 1996, the NRC has determined that this action is not a major rule and has verified this determination with the Office of Information and Regulatory Affairs, Office of Management and Budget.

List of Subjects in 10 CFR Part 72

Administrative practice and procedure, Hazardous waste, Nuclear materials, Occupational safety and health, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendments to 10 CFR Part 72.

PART 72—LICENSING REQUIREMENTS FOR THE INDEPENDENT STORAGE OF SPENT NUCLEAR FUEL, HIGH-LEVEL RADIOACTIVE WASTE, AND REACTOR-RELATED GREATER THAN CLASS C WASTE

1. The authority citation for Part 72 continues to read as follows:

Authority: Secs. 51, 53, 57, 62, 63, 65, 69, 81, 161, 182, 183, 184, 186, 187, 189, 68 Stat. 929, 930, 932, 933, 934, 935, 948, 953, 954, 955, as amended, sec. 234, 83 Stat. 444, as amended (42 U.S.C. 2071, 2073, 2077, 2092, 2093, 2095, 2099, 2111, 2201, 2232, 2233, 2234, 2236, 2237, 2238, 2282); sec. 274, Pub. L. 86-373, 73 Stat. 688, as amended (42 U.S.C. 2021); sec. 201, as amended, 202, 206, 88 Stat. 1242, as amended, 1244, 1246 (42 U.S.C. 5841, 5842, 5846); Pub. L. 95-601, sec. 10, 92 Stat. 2951 as amended by Pub. L. 102-486, sec. 7902, 106 Stat. 3123 (42 U.S.C. 5851); sec. 102, Pub. L. 91-190, 83 Stat. 853 (42 U.S.C. 4332); secs. 131, 132, 133, 135, 137, 141, Pub. L. 97-425, 96 Stat. 2229, 2230, 2232, 2241, sec. 148, Pub. L. 100-203, 101 Stat. 1330-235 (42 U.S.C. 10151, 10152, 10153, 10155, 10157, 10161, 10168); sec. 1704, 112 Stat. 2750 (44 U.S.C. 3504 note); sec. 651(e), Pub. L. 109-58, 119 Stat. 806-10 (42 U.S.C. 2014, 2021, 2021b, 2111).

Section 72.44(g) also issued under secs. 142(b) and 148(c), (d), Pub. L. 100-203, 101 Stat. 1330-232, 1330-236 (42 U.S.C. 10162(b), 10168(c),(d)). Section 72.46 also issued under sec. 189, 68 Stat. 955 (42 U.S.C. 2239); sec. 134, Pub. L. 97-425, 96 Stat. 2230 (42 U.S.C. 10154). Section 72.96(d) also issued under sec. 145(g), Pub. L. 100-203, 101 Stat. 1330-235 (42 U.S.C. 10165(g)). Subpart J also issued under secs. 2(2), 2(15), 2(19), 117(a), 141(h), Pub. L. 97-425, 96 Stat. 2202, 2203, 2204, 2222, 2244 (42 U.S.C. 10101, 10137(a), 10161(h)). Subparts K and L are also issued under sec. 133, 98 Stat. 2230 (42 U.S.C. 10153) and sec. 218(a), 96 Stat. 2252 (42 U.S.C. 10198).

2. In § 72.214, Certificate of Compliance 1014 is revised to read as follows:

§ 72.214 List of approved spent fuel storage casks.

* * * * *

Certificate Number: 1014.

Initial Certificate Effective Date: May 31, 2000.

Amendment Number 1 Effective Date: July 15, 2002.

Amendment Number 2 Effective Date: June 7, 2005.

Amendment Number 3 Effective Date: May 29, 2007.

Amendment Number 4 Effective Date: January 8, 2008.

Amendment Number 5 Effective Date: July 14, 2008.

Amendment Number 6 Effective Date: August 17, 2009.

Amendment Number 7 Effective Date: December 28, 2009.

SAR Submitted by: Holtec International.

SAR Title: Final Safety Analysis Report for the HI-STORM 100 Cask System.

Docket Number: 72-1014.

Certificate Expiration Date: May 31, 2020.

Model Number: HI-STORM 100 Systems.

* * * * *

Dated at Rockville, MD, this 24th day of September 2009.
For the Nuclear Regulatory Commission.
R.W. Borchardt,
Executive Director for Operations.

[FR Doc. E9-24561 Filed 10-9-09; 8:45 am]

BILLING CODE 7590-01-P